COMMODITY FUTURES TRADING COMMISSION

Sunshine Act Meetings

Agency Holding the Meeting: Commodity Futures Trading Commission.

Time and Date: 3 p.m., Monday, September 24, 2007.

Place: 1155 21st St., NW., Washington, DC, 9th Floor, Commission Conference Room.

Status: Closed.

Matters to be Considered: Enforcement Matters.

FOR FURTHER INFORMATION CONTACT: Contact Sauntia S. Warfield, 202-418-5084.

David A. Stawick,
Secretary of the Commission.

[FR Doc. 07-4418 Filed 9-5-07; 3:46 pm]

BILLING CODE 6351-01-M